DEPARTMENT OF THE INTERIOR

Fish and Wildlife Service

50 CFR Part 20

RIN: 1018-AV12

Migratory Bird Hunting; Supplemental Proposals for Migratory Game Bird Hunting Regulations for the 2007-08 Hunting Season; Notice of Meetings

AGENCY: Fish and Wildlife Service, Interior.

ACTION: Proposed rule; supplemental.

SUMMARY: We, the U.S. Fish and Wildlife Service (Service), proposed in an earlier document to establish annual hunting regulations for certain migratory game birds for the 2007-08 hunting season. This supplement to the proposed rule provides the regulatory schedule, announces the Service Migratory Bird Regulations Committee and Flyway Council meetings, provides Flyway Council recommendations resulting from their March meetings, and provides regulatory alternatives for the 2007-08 duck hunting seasons.

DATES: The Service Migratory Bird Regulations Committee will meet to consider and develop proposed regulations for early-season migratory bird hunting on June 20 and 21, 2007, and for late-season migratory bird hunting and the 2008 spring/summer migratory bird subsistence seasons in Alaska on August 1 and 2, 2007. All meetings will commence at approximately 8:30 a.m. Following later Federal Register documents, you will be given an opportunity to submit comments for proposed early-season frameworks by July 31, 2007, and for proposed late-season frameworks and subsistence migratory bird seasons in Alaska by August 31, 2007.

ADDRESSES: The Service Migratory Bird Regulations Committee will meet in room 200 of the U.S. Fish and Wildlife Service's Arlington Square Building, 4401 N. Fairfax Dr., Arlington, VA. Send your comments on the proposals to the Chief, Division of Migratory Bird Management, U.S. Fish and Wildlife Service, Department of the Interior, MS MBSP-4107-ARLSQ, 1849 C Street, NW., Washington, DC 20240. All comments received, including names and addresses, will become part of the public record. You may inspect comments during normal business hours in room 4107, Arlington Square Building, 4501 North Fairfax Dr., Arlington, VA.

FOR FURTHER INFORMATION CONTACT: Ron W. Kokel, U.S. Fish and Wildlife Service, Department of the Interior, MS MBSP-4107-ARLSQ, 1849 C Street, NW., Washington, DC 20240; (703) 358-1714. For information on the migratory bird subsistence season in Alaska, contact Fred Armstrong, (907) 786-3887, or Donna Dewhurst, (907) 786-3499, U.S. Fish and Wildlife Service, 1011 E. Tudor Road, MS-201, Anchorage, AK 99503.

SUPPLEMENTARY INFORMATION:

Regulations Schedule for 2007

On April 11, 2007, we published in the Federal Register (72 FR 18328) a proposal to amend 50 CFR part 20. The proposal provided a background and overview of the migratory bird hunting regulations process, and dealt with the establishment of seasons, limits, and other regulations for hunting migratory game birds under §§ 20.101 through 20.107, 20.109, and 20.110 of subpart K. This document is the second in a series of proposed, supplemental, and final rules for migratory game bird hunting regulations. We will publish proposed early-season frameworks in early July and late-season frameworks in early August. We will publish final regulatory frameworks for early seasons on or about August 17, 2007, and for late seasons on or about September 14, 2007.

Service Migratory Bird Regulations Committee Meetings

The Service Migratory Bird Regulations Committee will meet June 20-21, 2007, to review information on the current status of migratory shore and upland game birds and develop 2007-08 migratory game bird regulations recommendations for these species, plus regulations for migratory game birds in Alaska, Puerto Rico, and the Virgin Islands. The Committee will also develop regulations recommendations for September waterfowl seasons in designated States, special sea duck seasons in the Atlantic Flyway, and extended falconry seasons. In addition, the Committee will review and discuss preliminary information on the status of waterfowl.

At the August 1-2, 2007, meetings, the Committee will review information on the current status of waterfowl and develop 2007-08 migratory game bird regulations recommendations for regular waterfowl seasons and other species and seasons not previously discussed at the early-season meetings. In addition, the Committee will develop recommendations for the 2008 spring/summer migratory bird subsistence season in Alaska. In accordance with Departmental policy, these meetings are open to public observation. You may submit written comments to the Service on the matters discussed.

Announcement of Flyway Council Meetings

Service representatives will be present at the individual meetings of the four Flyway Councils this July. Although agendas are not yet available, these meetings usually commence at 8 a.m. on the days indicated.

Atlantic Flyway Council: July 26-27, Sheraton Harborside Hotel, Portsmouth, NH.

Mississippi Flyway Council: July 28-29, Sawmill Creek Resort, Huron, OH.

Central Flyway Council: July 26-27, Holiday Inn of the Northern Black Hills, Spearfish, SD.

Pacific Flyway Council: July 27, Red Lion Hotel at the Park, Spokane, WA.

Review of Public Comments

This supplemental rulemaking describes Flyway Council recommended changes based on the preliminary proposals published in the April 11, 2007, Federal Register. We have included only those recommendations requiring either new proposals or substantial modification of the preliminary proposals and do not include recommendations that simply support or oppose preliminary proposals and provide no recommended alternatives. We will publish responses to all proposals and written comments when we develop final frameworks. In addition, this supplemental rulemaking contains the regulatory alternatives for the 2007-08 duck hunting seasons. We have included all Flyway Council recommendations received relating to the development of these alternatives.

We seek additional information and comments on the recommendations in this supplemental proposed rule. New proposals and modifications to previously described proposals are discussed below. Wherever possible, they are discussed under headings corresponding to the numbered items identified in the April 11 proposed rule. Only those categories requiring your attention or for which we received Flyway Council recommendations are discussed below.

1. Ducks

Duck harvest management categories are: (A) General Harvest Strategy; (B) Regulatory Alternatives, including specification of framework dates, season length, and bag limits; (C) Zones and Split Seasons; and (D) Special Seasons/Species Management.

A. General Harvest Strategy

Council Recommendations: The Upper- and Lower-Region Regulations Committees of the Mississippi Flyway Council recommended that regulations changes be restricted to one step per year, both when restricting as well as liberalizing hunting regulations.

The Pacific Flyway Council recommended that the proposal developed by the Service for a revised protocol for managing the harvest of mallards in Western North America be implemented in 2008. The Council stated that this delay is needed to fully understand and pick a management objective, to incorporate explicit consideration of mallards derived from those portions of Alberta that contribute mallards to the Pacific Flyway, to determine how this strategy relates to Alaska's early season regulations, and to investigate the addition of alternative models.

Service Response: As we stated in the April 11 Federal Register, the final Adaptive Harvest Management protocol for the 2007-08 season will be detailed in the early-season proposed rule, which will be published in July.

B. Regulatory Alternatives

Council Recommendations: The Upper- and Lower-Region Regulations Committees of the Mississippi Flyway Council and the Central Flyway Council recommended that regulatory alternatives for duck hunting seasons remain the same as those used in 2006.

Public Comments: The Wisconsin Department of Natural resources recommended that regulatory alternatives for duck hunting seasons remain the same as those used in 2006.

Service Response: Last year in the May 30, 2006, Federal Register (71 FR 30786), we discussed the March 11, 2005, Adaptive Harvest Management (AHM) Task Force draft final report (http://www.fws.gov/migratorybirds/mgmt/ahm/taskforce/taskforce.htm) to the IAFWA Executive Committee concerning the future development and direction of AHM. The Task Force endeavored to develop a strategic approach that was comprehensive and integrative, that recognized the diverse perspectives and desires of stakeholders, that was consistent with resource monitoring and assessment capabilities, and that hopefully could be embraced by all four Flyways Councils. We stated then, and reiterate here, that we appreciate the extensive discussion the report has received and look forward to continuing dialogue concerning the future strategic course for AHM.

One of the most widely debated issues continues to be the nature of the regulatory alternatives. The Task Force recommended a simpler and more conservative approach than is reflected in the regulatory alternatives used since 1997, which are essentially those we proposed for the 2007-08 hunting season (April 11 Federal Register). As yet, however, no consensus has emerged among the Flyway Councils concerning modifications to the regulatory alternatives, nor is such consensus expected in time to select a regulatory alternative for the 2007-08 hunting season.

Therefore, the regulatory alternatives proposed in the April 11 Federal Register will be used for the 2007-08 hunting season. In 2005, the AHM regulatory alternatives were modified to consist only of the maximum season lengths, framework dates, and bag limits for total ducks and mallards. Restrictions for certain species within these frameworks that are not covered by existing harvest strategies will be addressed during the late-season regulations process. For those species with existing harvest strategies (canvasbacks and pintails), those strategies to be used for the 2007-08 hunting season.

D. Special Seasons/Species Management

iii. Black Ducks

Council Recommendations: The Upper- and Lower-Region Regulations Committees of the Mississippi Flyway Council endorsed the draft International Harvest Strategy for Black Ducks developed by the Black Duck AHM Working Group until such time that a full AHM model is available and requested a dialogue with the Service on options for implementing harvest restrictions, assuming harvest restrictions are warranted.

v. Pintails

Council Recommendations: The Pacific Flyway Council recommended that the proposal developed by the Service for the addition of a compensatory model for Northern Pintail harvest management be incorporated in 2007 and that work continue on improving the harvest management decision-making process for pintail. Additionally, the Council urged the Service to complete its banding needs assessment and to work with the Flyways and the Canadian Wildlife Service to improve the basic biological data to more fully inform decision making.

vi. Scaup

Council Recommendations: The Central Flyway Council recommended not implementing a scaup harvest strategy that uses an objective function based on Maximum Sustained Yield (MSY). They suggested that scaup regulatory alternatives for the Central Flyway in 2009 be based on the most recent 3-year running mean of the May Breeding Population estimates (BPOP) as follows:

a. BPOP mean > 4.0 million, daily bag limit of 3.

b. BPOP mean 3.25—4.0 million, daily bag limit of 2.

c. BPOP mean 2.5—3.25 million, daily bag limit of 1.

d. BPOP mean < 2.5 million, Hunter's Choice or 1-bird daily bag limit with a season-within-a-season.

The Pacific Flyway Council was supportive of the proposed approach outlined in the recently proposed Service assessment and decision-making framework to inform scaup harvest management, and endorsed a shoulder strategy of less than Maximum Sustained Yield (MSY). In developing regulation packages to implement the framework, the Council further requested recognition of flyway differences in scaup populations and harvest potential.

Service Response: In 2006, we did not change scaup harvest regulations with the understanding that a draft harvest strategy would be available for Flyway Council review prior to the 2007 winter meetings (see September 22, 2007, Federal Register, 71 FR 55654) and be in place to guide development of scaup hunting regulations in 2007. As part of this effort, we developed an assessment framework that uses available data to help predict the effects of harvest and other uncontrollable environmental factors on the scaup population. The final assessment was presented during the Winter Flyway Technical Section meetings, made available to the public in the April 11 Federal Register, and has been subject to both extensive and rigorous peer review. That peer review has resulted in many improvements in the assessment, and we believe it now represents an objective, efficient, and comprehensive synthesis of data relevant to scaup harvest management. Also, we have now completed additional work that we believe can help frame a viable scaup harvest strategy. The most recent technical analysis focuses on predicting scaup harvest from various combinations of Flyway-specific season lengths and bag limits, and this analysis has been appended to the assessment report previously available (http://www.fws.gov/reports).

We have received a number of comments from the Flyway Councils, States, and other interested publics on the assessment. As we indicated in the April 11 proposed rule, the final scaup harvest strategy will be detailed in the July early-season proposed rule (see Schedule of Regulations Meetings and Federal Register Publications in the April 11 Federal Register for further information). Of immediate concern, however, is the Flyway Councils' review of our most recent assessment. We urge the Flyway Councils to evaluate our latest assessments.

vii. Mottled Ducks

Council Recommendations: The Central Flyway Council recommended that the Service take no action with respect to further harvest reduction for West Gulf Coast mottled ducks until there is a better understanding of population dynamics and until implications of the Central Flyway's Hunter's Choice evaluation have been reviewed.

4. Canada Geese

A. Special Seasons

Council Recommendations: The Atlantic Flyway Council made several recommendations dealing with early Canada goose seasons. First, the Council recommended that the Service allow the use of special regulations (electronic calls, unplugged guns, extended hunting hours) later than September 15 during existing September Canada goose hunting seasons in Atlantic Flyway States. Use of these special regulations would be limited to the geographic areas of States that were open to hunting and under existing September season ending dates as approved by the Service for the 2007 regulation cycle. Lastly, the Council recommended allowing the experimental seasons in portions of Florida, Georgia, New York, North Carolina, South Carolina, and Vermont to become operational in 2007.

The Upper- and Lower-Region Regulations Committees of the Mississippi Flyway Council recommended that the closing dates for Canada goose hunting during the September goose season in the Northwest goose zone of Minnesota be extended through September 22 to coincide with the remainder of the state with a waiver of the experimental season requirements of collecting Canada goose parts.

B. Regular Seasons

Council Recommendations: The Upper- and Lower-Region Regulations Committees of the Mississippi Flyway Council recommended that the framework opening date for all species of geese for the regular goose seasons in Michigan and Wisconsin be September 16, 2007.

9. Sandhill Cranes

Council Recommendations: The Central Flyway Council recommended using the 2007 Rocky Mountain Population sandhill crane harvest allocation of 1,321 birds as proposed in the allocation formula using the 2004-06 3-year running average.

The Pacific Flyway Council recommended initiating a limited hunt for Lower Colorado River sandhill cranes in Arizona, with the goal of the hunt being a limited harvest of 5 cranes in January. To limit harvest, Arizona would issue permit tags to hunters and require mandatory check of all harvested cranes. To limit disturbance of wintering cranes, Arizona would restrict the hunt to one 3-day period. Arizona would also coordinate with the National Wildlife Refuges where cranes occur.

14. Woodcock

Council Recommendations: The Atlantic Flyway Council recommended allowing compensatory days for woodcock hunting in States where Sunday hunting is prohibited by State law.

16. Mourning Doves

Council Recommendations: The Atlantic Flyway Council and the Upper- and Lower-Region Regulations Committees of the Mississippi Flyway Council recommended that, based on criteria set forth in the current version of the Mourning Dove Harvest Management Strategy for the Eastern Management Unit (EMU), no changes in bag limit and season length components of the mourning dove harvest framework are warranted. They both further recommended that EMU States should be offered the choice of either a 12-bird daily bag limit and 70-day season or a 15-bird daily bag limit and 60-day season for the 2007-08 mourning dove hunting season, with a standardized 15-bird daily bag limit and 70-day season beginning with the 2008-09 mourning dove hunting season. The standardized bag limit and season length will then be used as the “moderate” harvest option for revising the Initial Mourning Dove Harvest Management Strategy.

18. Alaska

Council Recommendations: The Pacific Flyway Council recommended maintaining status quo in the Alaska early-season framework, except for increasing the dark goose daily bag limit in selected units to provide more harvest opportunity for white-fronted geese.

Public Comments Solicited

The Department of the Interior's policy is, whenever practicable, to afford the public an opportunity to participate in the rulemaking process. Accordingly, we invite interested persons to submit written comments, suggestions, or recommendations regarding the proposed regulations. Before promulgation of final migratory game bird hunting regulations, we will take into consideration all comments received. Such comments, and any additional information received, may lead to final regulations that differ from these proposals. We invite interested persons to participate in this rulemaking by submitting written comments to the address indicated under the caption ADDRESSES. Before including your address, phone number, e-mail address, or other personal identifying information in your comment, you should be aware that your entire comment—including your personal identifying information—may be made publicly available at any time. While you can ask us in your comment to withhold your personal identifying information from public review, we cannot guarantee that we will be able to do so.

You may inspect comments received on the proposed annual regulations during normal business hours at the Service's Division of Migratory Bird Management office in room 4107, 4501 North Fairfax Drive, Arlington, VA, 22203. For each series of proposed rulemakings, we will establish specific comment periods. We will consider, but possibly may not respond in detail to, each comment. As in the past, we will summarize all comments received during the comment period and respond to them after the closing date in any final rules.

NEPA Consideration

NEPA considerations are covered by the programmatic document “Final Supplemental Environmental Impact Statement: Issuance of Annual Regulations Permitting the Sport Hunting of Migratory Birds (FSES 88-14),” filed with the Environmental Protection Agency on June 9, 1988. We published a notice of availability in the Federal Register on June 16, 1988 (53 FR 22582). We published our Record of Decision on August 18, 1988 (53 FR 31341). In addition, an August 1985 environmental assessment entitled “Guidelines for Migratory Bird Hunting Regulations on Federal Indian Reservations and Ceded Lands” is available (see ADDRESSES).

In a notice published in the September 8, 2005, Federal Register (70 FR 53376), we announced our intent to develop a new Supplemental Environmental Impact Statement for the migratory bird hunting program. Public scoping meetings were held in the spring of 2006, as detailed in a March 9, 2006, Federal Register (71 FR 12216). A scoping report summarizing the scoping comments and scoping meetings is available by either writing to the address indicated under ADDRESSES or by viewing on our Web site at http://www.fws.gov/migratorybirds.

Endangered Species Act Consideration

Prior to issuance of the 2007-08 migratory game bird hunting regulations, we will comply with provisions of the Endangered Species Act of 1973, as amended (16 U.S.C. 1531-1543; hereinafter, the Act), to ensure that hunting is not likely to jeopardize the continued existence of any species designated as endangered or threatened, or modify or destroy its critical habitat, and is consistent with conservation programs for those species. Consultations under Section 7 of this Act may cause us to change proposals in this and future supplemental rulemaking documents.

Executive Order 12866

The migratory bird hunting regulations are economically significant and were reviewed by the Office of Management and Budget (OMB) under Executive Order 12866. As such, a cost/benefit analysis was initially prepared in 1981. This analysis was subsequently revised annually from 1990 through 1996, updated in 1998, and updated again in 2004. It is further discussed below under the heading Regulatory Flexibility Act. Results from the 2004 analysis indicate that the expected welfare benefit of the annual migratory bird hunting frameworks is on the order of $734 to $1,064 million, with a midpoint estimate of $899 million. Copies of the cost/benefit analysis are available upon request from the address indicated under ADDRESSES or from our Web site at http://www.fws.gov/migratorybirds/reports/SpecialTopics/EconomicAnalysis-Final-2004.pdf.

Executive Order 12866 also requires each agency to write regulations that are easy to understand. We invite comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more sections? (5) Is the description of the rule in the Supplementary Information section of the preamble helpful in understanding the rule? (6) What else could we do to make the rule easier to understand?

Send a copy of any comments that concern how we could make this rule easier to understand to: Office of Regulatory Affairs, Department of the Interior, Room 7229, 1849 C Street NW., Washington, DC 20240, or e-mail to Exsec@ios.doi.gov.

Regulatory Flexibility Act

These regulations have a significant economic impact on substantial numbers of small entities under the Regulatory Flexibility Act (5 U.S.C. 601 et seq.). We analyzed the economic impacts of the annual hunting regulations on small business entities in detail as part of the 1981 cost-benefit analysis discussed under Executive Order 12866. This analysis was revised annually from 1990 through 1995. In 1995, the Service issued a Small Entity Flexibility Analysis (Analysis), which was subsequently updated in 1996, 1998, and 2004. The primary source of information about hunter expenditures for migratory game bird hunting is the National Hunting and Fishing Survey, which is conducted at 5-year intervals. The 2004 Analysis was based on the 2001 National Hunting and Fishing Survey and the U.S. Department of Commerce's County Business Patterns, from which it was estimated that migratory bird hunters would spend between $481 million and $1.2 billion at small businesses in 2004. Copies of the Analysis are available upon request from the address indicated under ADDRESSES or from our Web site at htttp://www.fws.gov/migratorybirds/reports/SpecialTopics/EconomicAnalysis-Final-2004.pdf.

Small Business Regulatory Enforcement Fairness Act

This rule is a major rule under 5 U.S.C. 804(2), the Small Business Regulatory Enforcement Fairness Act. For the reasons outlined above, this rule has an annual effect on the economy of $100 million or more. However, because this rule establishes hunting seasons, we do not plan to defer the effective date under the exemption contained in 5 U.S.C. 808 (1).

Paperwork Reduction Act

We examined these regulations under the Paperwork Reduction Act of 1995. The various recordkeeping and reporting requirements imposed under regulations established in 50 CFR part 20, Subpart K, are utilized in the formulation of migratory game bird hunting regulations. Specifically, OMB has approved the information collection requirements of the surveys associated with the Migratory Bird Harvest Information Program and assigned clearance number 1018-0015 (expires 2/29/2008). This information is used to provide a sampling frame for voluntary national surveys to improve our harvest estimates for all migratory game birds in order to better manage these populations. OMB has also approved the information collection requirements of the Sandhill Crane Harvest Survey and assigned clearance number 1018-0023 (expires 11/30/2007). The information from this survey is used to estimate the magnitude and the geographical and temporal distribution of the harvest, and the portion it constitutes of the total population. A Federal agency may not conduct or sponsor and a person is not required to respond to a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this proposed rule, has determined that this proposed rule will not unduly burden the judicial system and that it meets the requirements of sections 3(a) and 3(b)(2) of Executive Order 12988.

Takings Implication Assessment

In accordance with Executive Order 12630, this proposed rule, authorized by the Migratory Bird Treaty Act, does not have significant takings implications and does not affect any constitutionally protected property rights. This rule will not result in the physical occupancy of property, the physical invasion of property, or the regulatory taking of any property. In fact, these rules allow hunters to exercise otherwise unavailable privileges and, therefore, reduce restrictions on the use of private and public property.

Energy Effects—Executive Order 13211

On May 18, 2001, the President issued Executive Order 13211 on regulations that significantly affect energy supply, distribution, and use. Executive Order 13211 requires agencies to prepare Statements of Energy Effects when undertaking certain actions. While this proposed rule is a significant regulatory action under Executive Order 12866, it is not expected to adversely affect energy supplies, distribution, or use. Therefore, this action is not a significant energy action and no Statement of Energy Effects is required.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a Federalism Assessment.

List of Subjects in 50 CFR Part 20

Exports, Hunting, Imports, Reporting and recordkeeping requirements, Transportation, Wildlife.

The rules that eventually will be promulgated for the 2007-08 hunting season are authorized under 16 U.S.C. 703-712 and 16 U.S.C. 742 a-j.

Dated: May 29, 2007.
David M. Verhey,
Acting Assistant Secretary for Fish and Wildlife and Parks.

BILLING CODE 4310-55-P

[FR Doc. 07-2838 Filed 6-7-07; 8:45 am]

BILLING CODE 4310-55-C